NATIONAL SCIENCE FOUNDATION

Sunshine Act Meeting; National Science Board

The National Science Board, pursuant to NSF regulations (45 CFR part 614), the National Science Foundation Act, as amended, (42 U.S.C. 1862n-5), and the Government in the Sunshine Act (5 U.S.C. 552b), hereby gives notice of a revised schedule of meetings for the transaction of National Science Board business. This notice replaces in its entirety the notice that was published on November 3, 2016, at 81 FR 26632.

DATE AND TIME: November 8, 2016 from 8:00 a.m. to 5:10 p.m., and November 9, 2016 from 9:00 a.m. to 2:45 p.m. EST.

PLACE: These meetings will be held at the National Science Foundation, 4201 Wilson Blvd., Room 1235, Arlington, VA 22230. All visitors must contact the Board Office (call 703-292-7000 or send an email to nationalsciencebrd@nsf.gov) at least 24 hours prior to the meeting and provide your name and organizational affiliation. Visitors must report to the NSF visitor's desk in the lobby of the 9th and N. Stuart Street entrance to receive a visitor's badge.

WEBCAST INFORMATION: Public meetings and public portions of meetings will be webcast. To view the meetings, go to http://www.tvworldwide.com/events/nsf/161108 and follow the instructions.

UPDATES: Please refer to the National Science Board Web site for additional information. Meeting information and schedule updates (time, place, subject matter, and status of meeting) may be found at http://www.nsf.gov/nsb/meetings/notices.jsp.

AGENCY CONTACT: John Veysey, jveysey@nsf.gov, 703-292-7000.

PUBLIC AFFAIRS CONTACT: Nadine Lymn, nlymn@nsf.gov, 703-292-2490.

STATUS: Portions open; portions closed.

OPEN SESSIONS:

November 8, 2016

8:00-9:20 a.m. Plenary introduction, NSB Chair and NSF Director Remarks

9:35-10:35 a.m. Committee on Strategy and Budget (CSB)

10:35-11:35 a.m. Committee on Audit and Oversight (A&O)

1:05-2:00 p.m. Committee on Science and Engineering Indicators (SEI)

2:00-4:00 p.m. Committee on Programs and Plans (CPP)

4:20-5:10 p.m. Joint session—CSB Subcommittee on Facilities (SCF) and CPP

November 9, 2016

1:00-2:45 p.m. (Plenary)

CLOSED SESSIONS:

November 9, 2016

9:00-10:05 a.m. (CSB)

10:05-10:25 a.m. (CPP)

10:45-11:10 a.m. (Plenary)

11:00-11:25 a.m. (Plenary Executive)

MATTERS TO BE DISCUSSED:

Tuesday, November 8, 2016

Plenary Board Meeting

Open session: 8:00-9:20 a.m.

• NSB Chair's Opening Remarks

Announcement of New Members and Ceremonial Oath of Office

Overview of Major Issues for Meeting

Report on Site Visits

Highlights From Board Retreat

• NSF Director's Remarks

• Discussion of NSB Structure

Committee on Strategy and Budget

Open session: 9:35-10:35 a.m.

• CSB Chair's Opening Remarks

• Approval of Prior Minutes

• Update on FY 2017 Budget

• Ongoing Development of 2018-2022 Strategic Plan

Committee on Audit and Oversight (A&O)

Open session: 10:35-11:35 a.m.

• A&O Chair's Opening Remarks

OIG Semiannual Report

• Approval of Prior Minutes

• National Academy of Public Administration (NAPA) Report: Implementation of Recommendation on Management Fee

• Merit Review Pilot Report

• Inspector General's Update

Update on Financial Statement Audit

Introduction of New Inspector General for Audit

OIG FY 2017 Audit Plan

• Chief Financial Officer's Update

• NSF Intergovernmental Personnel Act Program Update

Committee on Science and Engineering Indicators (SEI)

Open session: 1:05-2:00 p.m.

• SEI Chair's Opening Remarks

• Approval of Prior Minutes

• Update on STEM Ph.D.s Career Pathways Companion Brief

• Discussion: Indicators 2018 Overview and Transmittal Letter

Committee on Programs and Plans

Open session: 2:00-4:00 p.m.

• CPP Chair's Opening Remarks

• Approval of Prior Minutes

• CY 2017 Schedule of Planned Action and Information Items

• Review of NSB's Delegation of Award Authority

• Advanced Computing Infrastructure and Polar Realignment Updates

• Overview of BIO Portfolio: Status and Timelines

Joint Session of CSB Subcommittee on Facilities (SCF) and CPP

Open session: 4:20-5:10 p.m.

• Committee Chairs' Opening Remarks

• Approval of Prior Minutes

• Discussion of Facilities-Related Information Products

• Discussion of the Annual Facility Plan

MATTERS TO BE DISCUSSED:

Wednesday, November 9, 2016

Committee on Strategy and Budget

Closed session: 9:00-10:05 a.m.

• CSB Chair's Opening Remarks

• Approval of Prior Minutes

• Update on NSF FY 2018 Budget Request Development

Committee on Programs and Plans

Closed Session: 10:05-10:25 a.m.

• Committee Chair's Opening Remarks

• Approval of Prior Minutes

• NEON Operations and Maintenance Update

Plenary Board

Closed session: 10:45-11:00 a.m.

• NSB Chair's Opening Remarks

• Approval of Prior Minutes

• NSF Director's Remarks

• Closed Committee Reports

Plenary Board (Executive)

Closed session: 11:00 a.m.-11:25 a.m.

• NSB Chair's Opening Remarks

• Approval of Prior Minutes

• Recommendations for 2017 NSB Vannevar Bush and Public Service Awards

Plenary Board

Open session: 1:00-2:45 p.m.

• NSB Chair's Opening Remarks

• Approval of Prior Minutes

• NSF Director's Remarks

• Action Item: Changes to the Waterman Award Terms

• Changes to the Annual Facility Plan

• Discussion of Materials for the Presidential Transition

• Report from the Congressional Engagement Working Group

• Overview of NSF's Relocation

• Open Committee Reports

• Chair's Closing Remarks

MEETING ADJOURNS: 2:45 p.m.

Chris Blair,
Executive Assistant, National Science Board Office.

[FR Doc. 2016-26949 Filed 11-3-16; 4:15 pm]

BILLING CODE 7555-01-P